DEPARTMENT OF LABOR

Office of the Secretary

Submission for OMB Review: Comment Request

March 8, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Temporary Labor Camps (29 CFR 1910.142).

OMB Number: 1218-0096.

Frequency: On occasion.

Type of Response: Reporting and third party disclosure.

Affected Public: Business or other for-profit; not-for-profit institutions; farms; Federal Government; and State, Local, or Tribal Government.

Number of Respondents: 711.

Number of Annual Responses: 711.

Estimated Time per Response: 5 minutes.

Total Burden Hours: 57.

Total Annualized capital/startup costs: $0.

Total Annual Costs (operating/maintaining systems or purchasing services): $0.

Description: 29 CFR 1910.142 (the Standard) requires camp superintendents to report immediately to the local health officer the name and address of any individual in the camp known to have, or suspected of having, a communicable disease. Whenever there is a case of suspected food poisoning or an unusual prevalence of any illness in which fever, diarrhea, sore throat, vomiting or jaundice is a prominent symptom, the Standard requires the camp superintendent to report that immediately to the health authority. In addition, the Standard requires that where the toilet rooms are shared, separate toilet rooms must be provided for each sex. These rooms must be marked “for men” and “for women” by signs printed in English and in the native language of the persons occupying the camp, or marked with easily understood pictures or symbols.

Ira L. Mills,
Departmental Clearance Officer.

[FR Doc. E6-3843 Filed 3-15-06; 8:45 am]

BILLING CODE 4510-26-P